DEPARTMENT OF ENERGY

Federal Energy Regulatory Commission

[Docket No. EL04-2-000, et al.]

Sacramento Municipal Utility District, et al.; Electric Rate and Corporate Filings

October 10, 2003.

The following filings have been made with the Commission. The filings are listed in ascending order within each docket classification.

1. Sacramento Municipal Utility District, Complainant v. Pacific Gas and Electric Company, Southern California Edison Company and San Diego Gas & Electric Company, Respondents

[Docket No. EL04-2-000]

Take notice that on October 8, 2003, pursuant to Section 206 of the Federal Power Act and Rule 206, the Sacramento Municipal Utility District (SMUD) filed a complaint (Complaint) against Pacific Gas and Electric Company, Southern California Edison Company and San Diego Gas & Electric Company (California Companies), challenging the refusal of the California Companies to honor SMUD's exercise of its right of first refusal to extend the term of service under an August 1, 1967 transmission contract between the parties.

Comment Date: November 7, 2003.

2. Mirant Kendall, LLC

[Docket Nos. ER03-998-002]

Take notice that on September 26, 2003, ISO New England Inc. (ISO) tendered an Errata Filing to correct a Compliance Filing submitted on September 2, 2003 in the above captioned dockets. ISO states that copies of the Errata Filing have been served upon the parties.

Comment Date: October 20, 2003.

3. Xcel Energy Services, Inc.

[Docket No. ER04-2-000]

Take notice that on October 1, 2003, Xcel Energy Services, Inc. (XES), on behalf of Southwestern Public Service Company (SPS), submitted for filing Experimental Sales Riders between SPS and Central Valley Electric Cooperative, Inc.; Lyntegar Electric Cooperative, Inc.; Lea County Electric Cooperative, Inc,: Farmers' Electric Cooperative, Inc.; Roosevelt County Electric Cooperative, Inc.; and Cap Rock Energy Corporation.

Xcel requests that these agreements become effective on October 1, 2003.

Comment Date: October 22, 2003.

4. Florida Power Corporation

[ Docket No. ER04-3-000]

Take notice that on October 1, 2003, Florida Power Corporation, doing business as Progress Energy Florida, Inc., (Florida Power), tendered for filing an amendment adding an additional service schedule for negotiated interchange service to its First Revised Rate Schedule FERC No. 80, a contract for interchange service with Tampa Electric Company (Tampa Electric) dated July 21, 1977. Florida Power requests an effective date for the filing of October 2, 2003.

Florida Power states that copies of the filing were served on Tampa Electric and the Florida Public Service Commission.

Comment Date: October 22, 2003.

Standard Paragraph

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number filed to access the document. For assistance, call (202) 502-8222 or TTY, (202) 502-8659. Protests and interventions may be filed electronically via the Internet in lieu of paper; see 18 CFR 385.2001(a)(1)(iii) and the instructions on the Commission's web site under the “e-Filing” link. The Commission strongly encourages electronic filings.

Magalie R. Salas,
Secretary.

[FR Doc. E3-00083 Filed 10-21-03; 8:45 am]

BILLING CODE 6717-01-P